DEPARTMENT OF HEALTH AND HUMAN SERVICES

Substance Abuse and Mental Health Services Administration

Agency Information Collection Activities: Submission for OMB Review; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 988 Suicide & Crisis Lifeline and Crisis Services Program Evaluation—New Package

The Substance Abuse and Mental Health Services Administration (SAMHSA) 988 & Behavioral Health Crisis Coordinating Office (BHCCO)) is requesting clearance for the new data collection associated with the evaluation of the SAMHSA 988 Suicide and Crisis Lifeline and Crisis Services Program Evaluation (988 Suicide and Crisis Lifeline Evaluation). The collection of this information is critical to successfully oversee operational response and quality of service through the 988 Suicide and Crisis Lifeline to ensure connections to care for individuals in suicidal crisis or emotional distress contacting in for 988 phone, chat, and text support for connecting local, state/territory, and national outcomes and monitoring contractual obligations for current and future 988 Suicide and Crisis Lifeline grant programs. Much of the information is already embedded in the current 988 Suicide and Crisis Lifeline network administrator grants, the 988 state and territory grant program, or the 988 Tribal Response grant program.

In 2020, Congress designated the three-digit number, 9-8-8 for the Suicide and Crisis Lifeline, and the Suicide and Crisis Lifeline transitioned to the 3-digit number in July 2022. As a part of the federal government's commitment to addressing the mental health and opioid crises in America, unprecedented federal resources have been invested to expand crisis centers in support of 988. Since its launch in July 2022, the 988 Suicide & Crisis Lifeline has answered over 9.6 million contacts (SAMHSA, 2024). Progress recognized in 2023 continues in all areas including crisis line features, crisis center supports, and funding. In FY2024, nearly $500 million was appropriated in new funding opportunities for the 988 Lifeline Administrator and other grantees on state territorial, Tribal and center levels, as part of the commitment to strengthen crisis care nationally. In Section 1103(a)(2)(B) of the Consolidated Appropriations Act, 2023 (Pub. L. No: 117-328), Congress called for enhanced program evaluation, including performance measures to assess program response and improve readiness and performance of the service, including review of each contact to ensure timely connection of service and quality provision in line with evidence-based care. To meet the standards and requirements set forth in the statute, ongoing communication of key outcomes within this OMB request must be received and reviewed to ensure connection and quality of care through the 988 Suicide and Crisis Lifeline.

The information collected will be used by SAMHSA to conduct an evaluation of the 988 Suicide & Crisis Lifeline and Crisis Services, to ensure individuals in suicidal, mental health and/or substance use crisis can contact 988 Suicide and Crisis Lifeline and are connected to crisis centers providing evidence-based care and are able to receive critical resource referral and linkage, including opportunities for mobile crisis support, crisis receiving and stabilizing facilities, peer respite centers and withdrawal management services. The purpose of the 988 Lifeline and Crisis Services Program Evaluation is to assess the implementation and expansion of the 988 Lifeline in the U.S. The evaluation will provide SAMHSA, grantees, and other interested parties with the information needed to strengthen the Behavioral Health Crisis Services Continuum (BHCSC) for all people in crisis. The evaluation utilizes multiple studies to conduct the evaluation of the 988 Lifeline and Crisis Services across a 5-year period. The 988 Lifeline and Crisis Services Program Evaluation includes three levels: system-level, client-level, and impact. Embedded within each of the three evaluation levels are inquiries into differences in utilization of 988 Lifeline and BHCSC services and outcomes.

The System-level Evaluation examines the characteristics, collaborations, and structures of the crisis services infrastructure within states, territories, and Tribal jurisdictions that support improved client outcomes. The Systems-level Evaluation includes two studies: the System Composition and Collaboration Study and the System-Level Service Utilization Study. The System Composition and Collaboration Study examines the structure of the 988 Lifeline and the BHCSC at the national, state, territory, and Tribal levels, and the extent to which crisis service agencies work together. The System-level Service Utilization Study investigates whether the 988 Lifeline and BHCSC are successful in creating a behavioral-health-system-first response to crisis events and the resulting reduction in use of non-behavioral health crisis services (e.g., 911, law enforcement, emergency medical services).

The Client-level Evaluation provides critical information about the ways in which the 988 Lifeline and crisis services fulfill their mission to connect those in crisis with the services and supports needed to reduce crisis risk and improve overall behavioral health outcomes. The Client-level Evaluation consists of two studies: The Client-level Service Utilization and Outcome Study and the Client-level Risk Reduction Study. The Client-Level Service Utilization and Outcome Study explores the effectiveness of 988 Lifeline and BHCSCs in linking individuals to referral services following their contact with the crisis system and assesses the relationship between engagement with crisis services and behavioral health outcomes. The Client-Level Risk Reduction Study assesses the efficacy of 988 Lifeline and BHSCS contacts on immediate reductions in risks of suicide, violence toward others, and overdose.

The Impact Evaluation informs SAMHSA's efforts to continue to build the evidence base for suicide prevention and crisis programming. Specifically, this evaluation will examine the impact of 988 Lifeline and BHCSC on suicide and overdose morbidity and mortality. A quasi-experimental interrupted time series (ITS) design using extant, secondary data sources (e.g., CDC mortality data, Medicaid claims data, data from Healthcare Cost and Utilization Project (HCUP), data from the NSDUH, and SAMHSA's Performance and Accountability Reporting System [SPARS] data) gathered across multiple years to establish longitudinal state-level trends before and after major milestones in the implementation of the 988 Lifeline and BHCSC.

The 988 Lifeline and Crisis Services Program Evaluation engages with the following SAMHSA grant-funded programs that make up the core of the crisis care continuum: 988 State/Territory; 988 Tribal nations; Community Crisis Response Program (CCRP); Crisis Center Follow-Up (CCFU); 988 Administrator; and Certified Community Behavioral Health Clinics (CCBHCs). Additional grant programs which are relevant to the BHCSC, such as the Mental Health Services Block Grant (MHBG), State Opioid Response (SOR), Tribal Opioid Response (TOR), Substance Use Prevention, Treatment and Recovery Services Block Grant (SUPTRS BG), will be included in portions of the evaluation as relevant. In addition, crisis-providing organizations that are not SAMHSA grantees, especially mobile crisis programs, crisis stabilization units, and CCBHCs will also be engaged to participate in the evaluation.

Ultimately, the purpose of the SAMHSA 988 Suicide & Crisis Lifeline and Crisis Services Program is to build the program's knowledge base of effectiveness by thoroughly describing the implementation, outcomes, and impact of a program meant to reduce deaths by suicide.

The total annualized burden is an estimated 16,724 respondents for the 988 Lifeline and Crisis Services Program Evaluation instruments, with a combined hourly estimate to be 8,006.10 hours. Burden estimates are based on the data collection requirements and the number of respondents. The estimated response burden to collect this information associated with the 988 Lifeline and Crisis Services Program Evaluation is as follows annualized over the requested 3-year clearance period is presented below:

Total Annualized Burden Hours and Costs
[Across the 3-year clearance period]
Type of respondent | Instrument | Number of respondents per year | Responses per respondent | Total number of responses | Burden per response (hours) | Annual burden (hours) | Hourly wage rate ($) | Total annualized cost ($)
System Composition and Collaboration Study
Organizational Staff/Crisis System Administrator ¹ | SIS | 73 | 1 | 73 | 0.75 | 54.75 | $78.06 | $4,273.79
Organizational Staff/Crisis Agency Manager ² | CCPS | 1034 | 1 | 1034 | 1.00 | 1,034.00 | 58.80 | 60,799.20
Organizational Staff/Crisis Agency Staff ³ | KII-CS | 35 | 1 | 35 | 1.00 | 35.00 | 27.46 | 961.10
Organizational Staff/Crisis Agency Staff ³ | KII-CS-CSS | 13 | 1 | 13 | 0.50 | 6.50 | 27.46 | 178.49
Client-Level Service Utilization and Outcome Study
Organizational Staff/Crisis Agency Staff ³ | CCDF | 6,000 | 1 | 6,000 | 0.15 | 900.00 | 27.46 | 24,714.00
Parents/Caregivers ⁴ | CCDF Parent Supplement | ⁵ 1,560 | 1 | 1,560 | 0.10 | 156.00 | 7.25 | 1,131.00
Client ⁴ | CES—Baseline | 6,000 | 1 | 6,000 | 0.75 | 4,500.00 | 7.25 | 32,625.00
Client ⁴ | CES—3 months | 1,500 | 1 | 1,500 | 0.65 | 975.00 | 7.25 | 7,068.75
Client ⁴ | CES—6 months | 375 | 1 | 375 | 0.65 | 243.75 | 7.25 | 1,767.19
Client ⁴ | CES—12 months | 94 | 1 | 94 | 0.65 | 61.10 | 7.25 | 442.98
Client-Level Risk Reduction Study
Client ⁴ | C-KII-DC | 30 | 1 | 30 | 1.00 | 30.00 | 7.25 | 217.50
Client ⁴ | C-KII-TPC | 10 | 1 | 10 | 1.00 | 10.00 | 7.25 | 72.50
Total | 16,724 |  |  |  | 8,006.10 |  | 134,251.49
¹ BLS OES May 2022 National Industry-Specific Occupation Employment and Wage Estimates mean hourly salary for General and Operations Managers (code 11-1021), https://www.bls.gov/oes/current/oes111021.htm.
² BLS OES May 2022 National Industry-Specific Occupation Employment and Wage Estimates mean hourly salary for Social and Community Service Managers (code 11-9151), https://www.bls.gov/oes/current/oes119151.htm.
³ BLS OES May 2022 National Industry-Specific Occupation Employment and Wage Estimates mean hourly salary for Counselors, Social Workers, and Other Community and Social Service Specialists (code 21-1000), https://www.bls.gov/oes/current/naics5_541720.htm#29-0000.
⁴ https://www.usa.gov/minimum-wage.
⁵ This number represents an estimate based on the average distribution of monthly contacts by modality, cited in Lifeline Performance Metrics (SAMHSA, April 2024), and assumes that 40% of all individuals who contact 988 through chat or text (as cited in Gould et al., 2021 and Pisani et al., 2022) and 20% of those who contact 988 through phone call are below the age of 18.

Send comments to SAMHSA Reports Clearance Officer, 5600 Fisher Lane, Room 15E45, Rockville, MD 20852 OR email a copy at samhsapra@samhsa.hhs.gov. Written comments should be received by July 28, 2025.

Alicia Broadus,
Public Health Advisor.

[FR Doc. 2025-09620 Filed 5-28-25; 8:45 am]

BILLING CODE 4162-20-P